DEPARTMENT OF COMMERCE

National Oceanic and Atmospheric Administration

[I.D. 091405D]

Mid-Atlantic Fishery Management Council (MAFMC); Meetings

AGENCY: National Marine Fisheries Service (NMFS), National Oceanic and Atmospheric Administration (NOAA), Commerce.

ACTION: Notice of public meetings.

SUMMARY: The Mid-Atlantic Fishery Management Council (Council), its Research Set-Aside Committee, its Joint Spiny Dogfish Committee, its Ecosystems Committee, its Law Enforcement Committee, its Atlantic Mackerel, Squid, Butterfish Committee, and its Executive Committee will hold public meetings.

DATES: The meetings will be held from Tuesday, October 4, 2005, through Thursday, October 6, 2005. See SUPPLEMENTARY INFORMATION for more detailed information regarding the meeting agenda.

ADDRESSES: This meeting will be held at the Southampton Inn, 91 Hill Street, Southampton, NY, telephone 631-283-6500.

Council address: Mid-Atlantic Fishery Management Council, 300 S. New Street, Dover, DE 19904, telephone 302-674-2331.

FOR FURTHER INFORMATION CONTACT: Daniel T. Furlong, Executive Director, Mid-Atlantic Fishery Management Council; telephone: 302-674-2331, ext. 19.

SUPPLEMENTARY INFORMATION: Agenda items for the Council's committees and the Council itself are: Meeting of the Research Set-Aside Committee will review, discuss and establish 2007 priorities and project selection criteria. The Committee will also review the NMFS grants review/approval process. The Joint Dogfish Committee will discuss, develop and adopt 2006/2007 quotas and associated management measures. The Ecosystems Committee will review comments and feedback on the Council's ecosystems scoping document; and, develop and provide comments on H.R. 2939. The Law Enforcement Committee will meet to review Fisheries Achievement Award nominations. The swearing in of new and reappointed Council members and the election of Council Officers will take place following lunch. The Council will review the Joint Spiny Dogfish Committee's recommendations, develop and adopt quota and associated management measures for the 2006/2007 fishing year. NMFS will make a presentation on its proposed rule to consolidate its Atlantic Highly Migratory Species Fishery Management Plan. An Ecosystems Scoping meeting will be held at 7 p.m. The Atlantic Mackerel, Squid, Butterfish Committee will meet to review Amendment 9, receive updates on Amendment 10, and address developing a butterfish rebuilding schedule under Framework 5 to the FMP. The Council will address Framework 6 and priorities for Amendment 14 to the Summer Flounder, Scup, and Black Sea Bass Fishery Management Plan. The Council will also conduct its regular business session to approve minutes and receive reports. The Executive Committee will meet to develop and adopt its annual work plan for 2006. The Council will then convene to receive a NMFS presentation on law enforcement issues, a New England Council presentation on Habitat Areas of Particular Concern (HAPCS), and address any continuing or new business.

Meeting Agenda

On Tuesday, October 4, the Research Set-Aside Committee will meet from 8 - 10 a.m. Concurrent sessions of the Joint Dogfish Committee and the Ecosystems Committee will meet from 10 a.m.-12 noon. The Law Enforcement Committee will meet from 1-1:30 p.m. The Council will convene at 1:30 p.m. at which time new and reappointed Council members will take their oaths of office. The election of Council Officers will occur from 1:30-1:45 p.m. From 1:45 -4 p.m., the Council will meet to adopt dogfish specifications for the 2006/2007 fishing year. From 4 p.m. until 5:30 p.m., the Council will receive a presentation from NMFS officials regarding its proposed rule to consolidate its Atlantic Highly Migratory Species FMP. An Ecosystems Scoping meeting will be held from 7 -8 p.m.

On Wednesday, October 5, the Atlantic Mackerel, Squid, Butterfish Committee will meet from 8-11 a.m. The Council will convene at 11 a.m. to address Summer Flounder, Scup, and Black Sea Bass issues and conduct its regular business activities.

On Thursday, October 6, the Executive Committee will meet from 8-9 a.m. and the Council will convene at 9 a.m. until approximately 1 p.m. to receive third party reports and presentations, and address any continuing or new business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

This meeting is physically accessible to people with disabilities. Requests for sign language interpretation or other auxiliary aids should be directed to M. Jan Saunders at least 5 days prior to the meeting date.

Dated: September 14, 2005.
Alan D. Risenhoover,
Acting Director, Office of Sustainable Fisheries, National Marine Fisheries Service.

[FR Doc. E5-5121 Filed 9-19-05; 8:45 am]

BILLING CODE 3510-22-S